FEDERAL COMMUNICATIONS COMMISSION

47 CFR Part 73

[MB Docket No. 21-59; RM-11883; DA 21-202; FR ID 17517]

Television Broadcasting Services Corpus Christi, Texas

AGENCY: Federal Communications Commission.

ACTION: Proposed rule.

SUMMARY: The Commission has before it a petition for rulemaking (Petition) filed by Scripps Broadcasting Holdings, LLC (Scripps or the Petitioner), licensee of KRIS-TV, channel 13, Corpus Christi, Texas, requesting the substitution of channel 26 for channel 13 at Corpus Christi in the DTV Table of Allotments. Scripps states that it has received numerous complaints from viewers saying that they are unable to receive the station on channel 13, and that it is apparent that the KRIS-TV VHF signal is not providing viewers with the quality of service provided by UHF stations in the market. Scripps further states that the station is now silent, after a wind storm in April 2020 caused the tower to collapse, and Scripps would prefer to construct a new UHF facility on channel 26 in order to significantly improve off-air service, rather than replace the VHF channel 13 facility.

DATES: Comments must be filed on or before March 17, 2021 and reply comments on or before March 29, 2021.

ADDRESSES: Federal Communications Commission, Office of the Secretary, 45 L Street NE, Washington, DC 20554. In addition to filing comments with the FCC, interested parties should serve counsel for petitioner as follows: Christina H. Burrow, Esq., Cooley, LLP, 1229 Pennsylvania Avenue NW, Washington, DC 20004.

FOR FURTHER INFORMATION CONTACT: Joyce Bernstein, Media Bureau, at (202) 418-1647; or Joyce.Bernstein@fcc.gov.

SUPPLEMENTARY INFORMATION: This is a synopsis of the Commission's Notice of Proposed Rulemaking, MB Docket No. 21-59; RM-11883; DA 21-202, adopted February 22, 2021, and released February 22, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622 in paragraph (i) amend the Post-Transition Table of DTV Allotments under Texas by revising the entry for Corpus Christi to read as follows:

§ 73.622 Digital television table of allotments.

* * * * *

(i) * * *

Community | Channel No.
* * * * *
TEXAS
* * * * *
Corpus Christi | 8, 10, * 23, 26, 27, 38
* * * * *

[FR Doc. 2021-04289 Filed 3-1-21; 8:45 am]

BILLING CODE 6712-01-P